DEPARTMENT OF JUSTICE

Antitrust Division

Notice Pursuant to the National Cooperative Research and Production Act of 1993—Flexible Display Center at Arizona State University

Notice is hereby given that, on March 3, 2005, pursuant to section 6(a) of the National Cooperative Research and Production Act of 1993, 15 U.S.C. 4301 et seq. (“the Act”), Flexible Display Center at Arizona State University (“Center”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Abbie Gregg, Inc., Tempe, AZ; Arizona State University, Tempe, AZ; E Ink Corporation, Cambridge, MA; Kent Display Systems, Inc., Kent, OH; EV Group, Tempe, AZ; Honeywell, Phoenix, AZ; Ito America, Tokyo, JAPAN; Corning, Corning NY; Universal Display Corporation, Ewing, NJ; and US Display Consotrium, San Jose, CA.

The general area of Center's planned activity are: (a) To establish a Center at Arizona State University to foster the development of leading-edge flexible display technology research, development and technology demonstrator manufacturing; (b) to strategically deploy focused intellectual, physical, financial and management resources to dramatically accelerate advances in full color flexible display technology for commercial purposes; (c) to catalyze the growth of a vibrant flexible display industry; (d) to spearhead the effort of the U.S. Army to provide the war fighter with ubiquitous conformal and flexible displays that are lightweight, rugged, low power, and low cost, and which will significantly enhance a soldier's situational and operational effectiveness; and (e) to undertake such other activities as may from time to time be appropriate to further the purposes and achieve the goals set forth above. The parties intend to share intellectual property that is contributed and any intellectual property that is developed through the Center among themselves and the Center in accordance with the Participation Agreement among the parties.

Dorothy B. Fountain,
Deputy Director of Operations, Antitrust Division.

[FR Doc. 05-5885 Filed 3-24-05; 8:45 am]

BILLING CODE 4410-11-M